COMMITTEE FOR PURCHASE FROM PEOPLE WHO ARE BLIND OR SEVERELY DISABLED

Procurement List; Additions and Deletions

AGENCY: Committee for Purchase From People Who Are Blind or Severely Disabled.

ACTION: Deletions from the Procurement List.

SUMMARY: This action adds service(s) to the Procurement List that will be furnished by nonprofit agencies employing persons who are blind or have other severe disabilities, and deletes product(s) and service(s) from the Procurement List previously furnished by such agencies.

DATES: Date added to and deleted from the Procurement List: September 19, 2021.

ADDRESSES: Committee for Purchase From People Who Are Blind or Severely Disabled, 1401 S. Clark Street, Suite 715, Arlington, Virginia, 22202-4149.

FOR FURTHER INFORMATION CONTACT: Michael R. Jurkowski, Telephone: (703) 785-6404, or email CMTEFedReg@AbilityOne.gov.

SUPPLEMENTARY INFORMATION:

Additions

On 5/28/2021, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following service(s) are added to the Procurement List:

Service(s)

Service Type: Facility Management.

Mandatory for: U.S. Air Force, Airmen-In-Training Dormitories, Sheppard Air Force Base, TX.

Designated Source of Supply: Work Services Corporation, Wichita Falls, TX.

Contracting Activity: DEPT OF THE AIR FORCE, FA3020 82 CONS LGC.

The Committee finds good cause to dispense with the 30-day delay in the effective date normally required by the Administrative Procedure Act. See 5 U.S.C. 553(d). This addition to the Committee's Procurement List is effectuated because of the expiration of the U.S. Air Force, Facility Management, AIT Dormitories, Sheppard AFB, TX contract. The Federal customer contacted and has worked diligently with the AbilityOne Program to fulfill this service need under the AbilityOne Program. To avoid performance disruption, and the possibility that the U.S. Air Force will refer its business elsewhere, this addition must be effective on August 31, 2021, ensuring timely execution for a September 1, 2021, start date while still allowing 11 days for comment. Pursuant to its own regulation 41 CFR 51-2.4, the Committee determined that no severe adverse impact exists as government employees are currently providing the service. The Committee also published a notice of proposed Procurement List addition in the Federal Register on May 28, 2021 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Deletions

On 7/16/2021, the Committee for Purchase from People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, record keeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8465-01-465-2124—MOLLE II Carrier Sleep System, Woodland Camouflage.

8465-01-491-7508—MOLLE II Carrier Sleep System, Desert Camouflage.

Designated Source of Supply: Alabama Industries for the Blind, Talladega, AL.

Contracting Activity: DLA TROOP SUPPORT, PHILADELPHIA, PA.

NSN(s)—Product Name(s): 7520-01-455-7237—Pen, Ballpoint, Stick Type, Recycled, Red Ink, Fine Point.

Designated Source of Supply: West Texas Lighthouse for the Blind, San Angelo, TX.

Contracting Activity: GSA/FAS ADMIN SVCS ACQUISITION BR(2, NEW YORK, NY.

NSN(s)—Product Name(s): 4940-00-803-6444—Spray Kit, Self-Pressurized.

Designated Source of Supply: The Lighthouse for the Blind, St. Louis, MO.

Contracting Activity: DLA LAND AND MARITIME, COLUMBUS, OH.

Service(s)

Service Type: Unclass. Technical Order & Decal Distri.

Mandatory for: Oklahoma City Air Logistics Center, Tinker AFB, OK.

Designated Source of Supply: NewView Oklahoma, Inc., Oklahoma City, OK.

Contracting Activity: DEPT OF THE AIR FORCE, FA7014 AFDW PK.

Service Type: Classified Technical Order Distribution.

Mandatory for: Tinker Air Force Base: Building 3, Door 57, Tinker AFB, OK.

Designated Source of Supply: NewView Oklahoma, Inc., Oklahoma City, OK.

Contracting Activity: DEPT OF THE AIR FORCE, FA7014 AFDW PK.

Service Type: Peel&Stick Program Support.

Mandatory for: U.S. Coast Guard-Wide, 1750 Claiborne Avenue, Shreveport, LA.

Designated Source of Supply: Louisiana Association for the Blind, Shreveport, LA.

Contracting Activity: U.S. COAST GUARD, U.S. COAST GUARD.

Service Type: Storage/Distri. of Uniform Accessories.

Mandatory for: Defense Supply Center Philadelphia, PA.

Designated Source of Supply: Travis Association for the Blind, Austin, TX.

Contracting Activity: DEFENSE LOGISTICS AGENCY, DLA TROOP SUPPORT.

Service Type: Provi. of Customized Recog. & Awd. Prog.

Designated Source of Supply: The Lighthouse for the Blind, Inc. (Seattle Lighthouse), Seattle, WA.

Contracting Activity: GENERAL SERVICES ADMINISTRATION, FPDS AGENCY COORDINATOR.

Service Type: Management of State Department Mobile Security.

Mandatory for: Department of State, Office of Mobile Security Depolyments, Dunn Loring, VA, 2216 Gallows Road, Dunn Loring, VA.

Designated Source of Supply: Virginia Industries for the Blind, Charlottesville, VA.

Contracting Activity: STATE, DEPARTMENT OF, ACQUISITIONS—AQM MOMENTUM.

Service Type: Administrative/General Support Services.

Mandatory for: U.S. Customs Service, Gulf CMC, 423 Canal Street, New Orleans, LA.

Designated Source of Supply: The Lighthouse for the Blind in New Orleans, Inc., New Orleans, LA.

Contracting Activity: TREASURY, DEPARTMENT OF THE, DEPT OF TREAS.

Service Type: Administrative/General Support Services.

Mandatory for: GSA, Southwest Supply Center: 819 Taylor Street, Fort Worth, TX.

Designated Source of Supply: Dallas Lighthouse for the Blind, Inc., Dallas, TX.

Contracting Activity: GENERAL SERVICES ADMINISTRATION, FPDS AGENCY COORDINATOR.

Service Type: Facilities Maintenance Services.

Mandatory for: DISA, JITC, 3341 Strauss Avenue, Building 900, Indian Head, MD.

Designated Source of Supply: Beacon Group, Inc., Tucson, AZ.

Contracting Activity: DEFENSE INFORMATION SYSTEMS AGENCY (DISA), IT CONTRACTING DIVISION—PL83.

Service Type: Facilities Maintenance Services.

Mandatory for: DISA, JITC, 4465 Indian Head Highway, Ely Building, Indian Head, MD.

Designated Source of Supply: Beacon Group, Inc., Tucson, AZ.

Contracting Activity: DEFENSE INFORMATION SYSTEMS AGENCY (DISA), IT CONTRACTING DIVISION—PL83.

Service Type: Facilities Maintenance Services.

Mandatory for: DISA, JITC, 6910 Cooper Avenue, Fort Meade, MD.

Designated Source of Supply: Beacon Group, Inc., Tucson, AZ.

Contracting Activity: DEFENSE INFORMATION SYSTEMS AGENCY (DISA), IT CONTRACTING DIVISION—PL83.

Service Type: Facilities Maintenance Services.

Mandatory for: DISA, JITC, 3341 Strauss Avenue, Building 900, Indian Head, MD.

Designated Source of Supply: Didlake, Inc., Manassas, VA.

Contracting Activity: DEFENSE INFORMATION SYSTEMS AGENCY (DISA), DITCO-FT HUACHUCA PL65.

Service Type: Facilities Maintenance Services.

Mandatory for: DISA, JITC, 4465 Indian Head Highway, Ely Building, Indian Head, MD.

Designated Source of Supply: Didlake, Inc., Manassas, VA.

Contracting Activity: DEFENSE INFORMATION SYSTEMS AGENCY (DISA), DITCO-FT HUACHUCA PL65.

Service Type: Facilities Maintenance Services.

Mandatory for: DISA, JITC, 6910 Cooper Avenue, Fort Meade, MD.

Designated Source of Supply: Didlake, Inc., Manassas, VA.

Contracting Activity: DEFENSE INFORMATION SYSTEMS AGENCY (DISA), DITCO-FT HUACHUCA PL65.

Service Type: Laundry Service.

Mandatory for: US Air Force, Wright-Patterson Air Force Base Medical Center, Wright-Patterson AFB, OH, 4881 Sugar Maple Drive, Wright-Patterson AFB, OH.

Designated Source of Supply: Greene, Inc., Xenia, OH.

Contracting Activity: DEPT OF THE AIR FORCE, FA8601 AFLCMC PZIO.

Michael R. Jurkowski,
Acting Director, Business Operations.

[FR Doc. 2021-17900 Filed 8-19-21; 8:45 am]

BILLING CODE 6353-01-P